DEPARTMENT OF THE INTERIOR

National Park Service

Notice of Realty Action; Mojave National Preserve

AGENCY: National Park Service, Interior.

SUMMARY: Proposed Exchange of Federal Property for Private Property at Mojave National Preserve.

FOR FURTHER INFORMATION CONTACT: Sondra S. Humphries, Chief, Pacific Land Resources Program Center at (415) 427-1416.

SUPPLEMENTARY INFORMATION: Public comments will be accepted for a period of 45 calendar days from the date of this notice. In order to resolve the encroachment of a private residence and ranch headquarters on federal land, it is necessary for the National Park Service to effect a land exchange at Mojave National Preserve, San Bernardino County, California.

Authority for the land exchange is contained in 16 U.S.C. 410aaa-56. The land to be conveyed by the United States of America is located approximately 15 miles northwesterly from Interstate Highway 15 off of Essex Road and contains 40.00 acres, more or less.

The land to be acquired by the United States of America is located seven miles northeast of the intersection of Essex and Black Canyon Roads and also contains 40.00 acres, more or less.

Both sites were surveyed for the presence of hazardous materials and none were found. In addition, natural and cultural resource surveys were conducted and impacts were found to be minimal. The biological survey did not disclose the presence of any rare, endangered or threatened species.

Title to the lands being exchanged will be subject to encumbrances of record as well as existing rights-of-way.

The value of the lands to be exchanged shall be determined by a current fair market appraisal and if they are not equal, the value shall be equalized by payment of cash and/or donation, as circumstances require.

The 40.00 acre parcel to be acquired by the United States of America will enable the National Park Service to further protect critical Desert Tortoise Habitat within the Preserve.

Detailed information concerning this proposal, land descriptions, Land Protection Plan and other information are available at the National Park Service, Pacific Land Resources Program Center, 600 Harrison Street, Suite 600, San Francisco, California, 94107-1372.

Comments will be accepted from interested parties for a period of 45 calendar days from the date of this notice, and may be submitted to the above address. Comments will be evaluated and this action may be modified or vacated accordingly. In the absence of any action to modify or vacate, the realty action will become the final determination of the Department of the Interior.

Dated: October 6, 1999.
Martha K. Leicester,
Acting Regional Director, Pacific West Region.

[FR Doc. 00-9585 Filed 4-17-00; 8:45 am]

BILLING CODE 4310-70-M